DEPARTMENT OF COMMERCE

International Trade Administration

[A-570-893]

Certain Frozen Warmwater Shrimp From the People's Republic of China: Notice of Amended Final Determination of Sales at Less Than Fair Value Pursuant to Court Decision

AGENCY: Import Administration, International Trade Administration, Department of Commerce.

DATES: Effective Date: May 24, 2011.

FOR FURTHER INFORMATION CONTACT: Javier Barrientos, AD/CVD Operations, Office 9, Import Administration, International Trade Administration, U.S. Department of Commerce, 14th Street and Constitution Avenue, NW., Washington, DC 20230; telephone: 202-482-2243.

Background

This matter arose from a challenge to the results in the Department of Commerce's (“Department”) Notice of Final Determination of Sales at Less Than Fair Value: Certain Frozen and Canned Warmwater Shrimp from the People's Republic of China, 69 FR 70997 (December 8, 2004) (“Final Determination”) and Notice of Amended Final Determination of Sales at Less Than Fair Value and Antidumping Duty Order: Certain Frozen Warmwater Shrimp From the People's Republic of China, 70 FR 5149 (February 1, 2005) (“Amended Final Determination”). Following publication of the Amended Final Determination, respondents ¹ Allied Pacific and Yelin, filed a lawsuit with the Court of International Trade (“CIT” or the “Court”) challenging the Department's Final Determination and Amended Final Determination. At issue in the litigation were the Department's surrogate values for two inputs: raw, head-on, shell-on shrimp and hours of labor used in the production of the subject merchandise.

¹ Allied Pacific Food (Dalian) Co., Ltd., Allied Pacific (H.K.) Co., Ltd., King Royal Investments, Ltd., Allied Pacific Aquatic Products (Zhanjiang) Co., Ltd., and Allied Pacific Aquatic Products (Zhongshan) Co., Ltd. (collectively “Allied Pacific”) and Yelin Enterprise Co. Hong Kong (“Yelin”) are Chinese producers of subject shrimp that were respondents in the antidumping duty investigation.

After two court ordered remands, the Department issued its second final results of redetermination on May 21, 2009. See Allied Pacific Food (Dalian) Co. Ltd. v. United States, 716 F. Supp. 2d 1339 (Ct. Int'l Trade 2010). In its second remand redetermination, the Department calculated new surrogate values for shrimp using ranged data from the Indian shrimp producer Devi Seafoods, Ltd. (“Devi”) and adopted a new surrogate labor rate. Id. at 1342. Using these revised values, the Department determined revised antidumping duty margins of 5.07% ad-valorem for Allied Pacific and 8.45% ad-valorem for Yelin. Id.

No party appealed the CIT's decision. As there is now a final and conclusive court decision in this case, we are amending our final determination.

Amended Final Determination

As the litigation in this case has concluded, the Department is amending the Final Determination to reflect the results of our remand determination. The revised dumping margins for the amended final determination are as follows:

Manufacturer/exporter | Margin
Allied Pacific | 5.07%
Yelin | 8.45%

The PRC-wide rate continues to be 112.81 percent as determined in the Department's Amended Final Determination.

Both Allied Pacific and Yelin have received new cash deposit rates in subsequent reviews, so the rates listed above will not be applied as cash deposit rates for either company. Additionally, both Allied Pacific and Yelin obtained preliminary injunctions enjoining liquidation of all entries of subject merchandise during subsequent administrative review periods. Now that the litigation to which these injunctions pertained has been completed, the Department intends to issue instructions to U.S. Customs and Border Protection (“CBP”) fifteen days after publication of this notice notifying CBP of the lifting of these injunctions and instructing CBP to liquidate all appropriate entries, not otherwise enjoined, at the applicable rates for each review period.

This notice is published in accordance with sections 735(d), 777(i), and 516A(a)(B) of the Tariff Act of 1930, as amended.

Dated: May 17, 2011.
Ronald K. Lorentzen,
Deputy Assistant Secretary for Import Administration.

[FR Doc. 2011-12793 Filed 5-23-11; 8:45 am]

BILLING CODE 3510-DS-P